DEPARTMENT OF DEFENSE

Department of the Army, Corps of Engineers

Withdrawal of Notice of Solicitation of Applications for Stakeholder Representative Members of the Committee on Levee Safety

AGENCY: U.S. Army Corps of Engineers, DoD.

ACTION: Notice of intent; withdrawal.

SUMMARY: The U.S. Army Corps of Engineers is notifying interested parties that it has withdrawn the notice to solicit applications to form the Committee on Levee Safety. The original notice was published in the Federal Register on January 21, 2022. Due to stakeholder feedback, the approach for the Committee on Levee Safety is being reconsidered.

DATES: The notice to solicit applications and form the Committee on Levee Safety published in the Federal Register on January 21, 2022 (87 FR 3286), is withdrawn as of June 13, 2023.

ADDRESSES: U.S. Army Corps of Engineers, Vicksburg District, ATTN: Levee Safety Center, RM 221, 4155 East Clay Street, Vicksburg, MS 39183.

FOR FURTHER INFORMATION CONTACT: Ms. Tammy Conforti, 202-365-6586, email hq-leveesafety@usace.army.mil or visit www.leveesafety.org.

SUPPLEMENTARY INFORMATION: The Committee on Levee Safety was being established under the authority of 33 U.S.C. 3302 to support the National Levee Safety Program.

Michael. L. Connor,
Assistant Secretary of the Army (Civil Works).

[FR Doc. 2023-12527 Filed 6-12-23; 8:45 am]

BILLING CODE 3720-58-P